DEPARTMENT OF DEFENSE

Department of the Army

[Docket ID: USA-2015-HQ-0044]

Privacy Act of 1974; System of Records

AGENCY: Department of the Army, DoD.

ACTION: Notice to reinstate a system of records.

SUMMARY: The Department of the Army (DOA) proposes to reinstate a system of records, A0351 AMC, entitled “Student/Faculty Records: AMC Schools Systems” to its inventory of record systems to the Privacy Act of 1974, as amended. After publication of the deletion notice in the Federal Register (October 3, 2012, 77 FR 60412), the DOA discovered that the records had not yet been transferred to the National Personnel Records Center. Therefore, the DOA system of records notice should not have been deleted and is being reinstated in full below.

DATES: Comments will be accepted on or before November 30, 2015. This proposed action will be effective on the date following the end of the comment period unless comments are received which result in a contrary determination.

ADDRESSES: You may submit comments, identified by docket number and title, by any of the following methods:

* Federal Rulemaking Portal: http://www.regulations.gov.

Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22315-3860 or by phone at 703-428-7499.

SUPPLEMENTARY INFORMATION: The Department of the Army systems of records notices subject to the Privacy Act of 1974 (5 U.S.C. 552a), as amended, have been published in the Federal Register and are available from the address in FOR FURTHER INFORMATION CONTACT or at the Defense Privacy and Civil Liberties Office Web site at http://dpclo.defense.gov/.

Dated: October 27, 2015.
Aaron Siegel,
Alternate OSD Federal Register Liaison Officer, Department of Defense.

A0351 AMC

System name:

Student/Faculty Records: AMC Schools Systems (February 2, 1996, 61 FR 3916)

System location:

U.S. Army Management Engineering College, Rock Island, IL 61299-7040 and U.S. Army Defense Ammunition Center and School, Savanna, IL 61074-9639.

Categories of individuals covered by the system:

Students enrolled/attending schools identified above, faculty, instructors, and guest speakers.

Categories of records in the system:

Student academic records consisting of course completion and results, aptitudes and personal qualities, grades/ratings assigned; instructor/guest speaker qualifications and evaluations, including biographical data; class historical/academic achievements; and related information.

Authority for maintenance of the system:

5 U.S.C. 301 and E.O. 9397 (SSN).

Purpose(s):

To determine applicant eligibility, monitor individual's progress, maintain record of student/faculty achievements, and to provide bases for management assessment of curricula and faculty effectiveness and class standing.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The `Blanket Routine Uses' set forth at the beginning of the Army's compilation of systems of records notices also apply to this system.

Policies and practices for storing, retrieving, accessing, retaining, and disposing of records in the system:

Storage:

Paper records; cards; photographs; magnetic tapes/discs; and printouts.

Retrievability:

By name, Social Security Number, military service number.

Safeguards:

Records are maintained in locked cabinets within secured areas accessible only to authorized persons having an official need-to-know.

Retention and disposal:

Individual academic records are retained for 40 years, 3 of which are at the school which created them; they are subsequently transferred to the National Personnel Records Center, 9700 Page Boulevard, St. Louis, MO 63132-5200. Faculty/instructor qualifications records are retained until individual transfers from the facility, held for 5 years, and then destroyed. Other records are retained until no longer needed, at which time they are destroyed.

System manager(s) and address:

Commander, U.S. Army Materiel Command, 5001 Eisenhower Avenue, Alexandria, VA 22333-0001.

Notification procedure:

Individuals seeking to determine whether information about themselves is contained in this system should address written inquiries to the Commandant/Director of the appropriate School/Agency.

Individual should provide full name, rank/grade, Social Security Number, course title/class number, and date of attendance or, if a faculty member: Name, course(s) taught, and period in which instructed at named training facility.

Record access procedures:

Individuals seeking access to information about themselves contained in this system should address written inquiries to the Commandant/Director of the appropriate School/Agency.

Individual should provide full name, rank/grade, Social Security Number, course title/class number, and date of attendance or, if a faculty member: Name, course(s) taught, and period in which instructed at named training facility.

Contesting record procedures:

The Army's rules for accessing records and for contesting contents and appealing initial agency determinations are contained in Army Regulation 340-21; 32 CFR part 505; or may be obtained from the system manager.

Record source categories:

From the individual student, faculty, instructor, guest speaker, and management analyses of class performance.

Exemptions claimed for the system:

None.

[FR Doc. 2015-27709 Filed 10-29-15; 8:45 am]

BILLING CODE 5001-06-P